DEPARTMENT OF ENERGY

Federal Energy Regulatory Commission

[Docket No. AD16-18-000]

Competitive Transmission Development, Rates Technical Conference; Notice of Technical Conference

Take notice that the Federal Energy Regulatory Commission (Commission) will hold a Commissioner-led technical conference to discuss issues related to competitive transmission development processes, including but not limited to use of cost containment provisions, the relationship of competitive transmission development to transmission incentives, and other ratemaking issues.¹ The conference will be held on June 27, 2016, from approximately 1:00 p.m. to 5:00 p.m., and on June 28, 2016, from approximately 9:30 a.m. to 5:00 p.m., at the Commission's headquarters at 888 First Street NE., Washington, DC 20426. Further details about the agenda and speakers will be issued at a later date in supplemental notices.

¹ Topics to be discussed include, but are not limited to, those that the Commission described in NextEra Energy Transmission West, LLC, 154 FERC ¶ 61,009, at PP 76-78 (2015).

The conference will be open for the public to attend. Information on the technical conference will also be posted on the Calendar of Events on the Commission's Web site, http://www.ferc.gov, prior to the event. Advance registration is not required, but is encouraged. Attendees may register at the following Web page: https://www.ferc.gov/whats-new/registration/06-27-16-form.asp.

This event will be webcast and transcribed. Anyone with internet access can navigate to the “FERC Calendar” at www.ferc.gov, and locate the technical conference in the Calendar of Events. Opening the technical conference in the Calendar of Events will reveal a link to its webcast. The Capitol Connection provides technical support for the webcast and offers the option of listening to the meeting via phone-bridge for a fee. If you have any questions, visit www.CapitolConnection.org or call 703-993-3100. The webcast will be available on the Calendar of Events at www.ferc.gov for three months after the conference. Transcripts of the conference will be immediately available for a fee from Ace-Federal Reporters, Inc. (202-347-3700).

Commission conferences are accessible under section 508 of the Rehabilitation Act of 1973. For accessibility accommodations, please send an email to accessibility@ferc.gov or call toll free 1-866-208-3372 (voice) or 202-502-8659 (TTY), or send a FAX to 202-208-2106 with the required accommodations.

For more information about this technical conference, please contact:

Sarah McKinley (Logistical Information), Office of External Affairs, Federal Energy Regulatory Commission, 888 First Street NE., Washington, DC 20426, (202) 502-8004, sarah.mckinley@ferc.gov.

David Tobenkin (Technical Information), Office of Energy Policy and Innovation, Federal Energy Regulatory Commission, 888 First Street NE., Washington, DC 20426, (202) 502-6445, david.tobenkin@ferc.gov.

Zeny Magos (Technical Information), Office of Energy Market Regulation, Federal Energy Regulatory Commission, 888 First Street NE., Washington, DC 20426, (202) 502-8244, zeny.magos@ferc.gov.

Dated: March 17, 2016.
Nathaniel J. Davis, Sr.,
Deputy Secretary.

[FR Doc. 2016-06501 Filed 3-22-16; 8:45 am]

BILLING CODE 6717-01-P